DEPARTMENT OF COMMERCE

International Trade Administration

[A-201-805]

Certain Circular Welded Non-Alloy Steel Pipe From Mexico: Preliminary Results of Antidumping Duty Administrative Review

AGENCY: Import Administration, International Trade Administration, Department of Commerce.

SUMMARY: In response to requests by interested parties, the Department of Commerce (the Department) is conducting an administrative review of the antidumping duty order on certain circular welded non-alloy steel pipe from Mexico. This administrative review covers mandatory respondents Mueller Comercial de Mexico, S. de R.L. de C.V. (Mueller), Southland Pipe Nipples Company, Inc. (Southland), Lamina y Placa Comercial, S.A. de C.V. (Lamina), and Tuberia Nacional, S.A. de C.V. (TUNA).¹ The period of review (POR) is November 1, 2009, through October 31, 2010.

¹ The Department determined that Lamina is the successor-in-interest to TUNA. See Notice of Final Results of Antidumping Duty Changed Circumstances Review: Certain Circular Welded Non-Alloy Steel Pipe From Mexico, 75 FR 82374 (December 30, 2010).

The respondents provided certifications of no shipments. We sought further clarification of a specific entry indicated by U.S. Customs and Border Protection (CBP) data and analyzed parties' explanations of this entry. The Department's review of import data supports the claims of the respondents. We preliminarily determine that the respondents did not have reviewable sales, shipments, or entries during the POR. Interested parties are invited to comment on these preliminary results.

DATES: Effective Date: August 10, 2011.

FOR FURTHER INFORMATION CONTACT: Mark Flessner or Robert James, AD/CVD Operations, Office 7, Import Administration, International Trade Administration, U.S. Department of Commerce, 14th Street and Constitution Avenue, NW., Washington, DC 20230; telephone: (202) 482-6312 or (202) 482-0469, respectively.

SUPPLEMENTARY INFORMATION:

Background

On November 2, 1992, the Department published the antidumping duty order on certain circular welded non-alloy steel pipe from Mexico. See Notice of Antidumping Duty Orders: Certain Circular Welded Non-Alloy Steel Pipe from Brazil, the Republic of Korea (Korea), Mexico, and Venezuela and Amendment to Final Determination of Sales at Less Than Fair Value: Certain Welded Non-Alloy Steel Pipe from Korea, 57 FR 49453 (November 2, 1992) (Antidumping Duty Order). On November 1, 2010, the Department published a notice of opportunity to request an administrative review in the Federal Register. See Antidumping or Countervailing Duty Order, Finding, or Suspended Investigation; Opportunity To Request Administrative Review, 75 FR 67079 (November 1, 2010). On November 30, 2010, the Department received multiple requests for administrative review. Mueller requested a review of itself and Southland. Southland requested a review of itself and Mueller. U.S. Steel Corporation (U.S. Steel) requested reviews of Mueller, Southland, TUNA, and Lamina. Wheatland Tube Company (Wheatland) requested reviews of Mueller and Southland. Allied Tube and Conduit and TMK IPSCO Tubulars (Allied/TMK) requested reviews of Mueller, Southland, TUNA, and Lamina. On December 28, 2010, the Department published a Federal Register notice initiating an antidumping administrative review. See Initiation of Antidumping and Countervailing Duty Administrative Reviews and Request for Revocation in Part, 75 FR 81565 (December 28, 2010) (Initiation Notice). The Department stated in its initiation of this review that it intended to rely on CBP data to select respondents if respondent selection was considered appropriate. See Initiation Notice. For the purpose of potential respondent selection, we made a data inquiry to CBP and placed certain documents from this data query on the record. See memorandum from Mark Flessner to the File entitled, “Certain Circular Welded Non-Alloy Carbon Steel Pipe from Mexico: Customs and Border Protection Documents,” dated March 17, 2011 (CBP Documents Memorandum). For further discussion of these documents, see the “No Shipments Claims” section below.

On January 25, 2011, Wheatland requested that the Department conduct a duty absorption inquiry with regard to Mueller, Lamina, and Ternium Nacional, S.A. de C.V. (Ternium). Mueller responded to this request on February 22, 2011.

On January 26, 2011, the Department issued its standard antidumping questionnaire to Mueller and Southland (both represented by the same counsel) and to Lamina (at the time, the successor-in-interest to TUNA).

On February 16, 2011, Lamina claimed that it and TUNA (on whose behalf it was responding) had made no shipments or entries for consumption of subject merchandise to the United States during the POR. On February 25, 2011, Mueller claimed that it had made no shipments or entries for consumption of subject merchandise to the United States during the POR, providing documentation in support of its claim. On March 11, 2011, Mueller provided additional documentation in support of its claim.

On April 7, 2011, Wheatland requested that the Department conduct verifications of both Mueller and Lamina. On April 8, 2011, Lamina responded to Wheatland's verification request.

On April 13, 2011, Wheatland submitted comments concerning the CBP data contained in the March 17, 2011, memorandum cited above. On April 19, 2011, U.S. Steel placed the verification report from the previous segment of this proceeding on the record of the instant segment.

On May 19, 2011, we sent a “No Shipments Inquiry” to CBP to confirm that there were no shipments or entries of certain circular welded non-alloy steel pipe from Mexico by Mueller during the POR. On July 19, 2011, we sent additional such inquiries to CBP to confirm that there were no shipments or entries of certain circular welded non-alloy steel pipe from Mexico by TUNA, Lamina, and Southland during the POR. On July 19, 2011, Southland submitted a clarification of its February 25, 2011, submission; it stated specifically that Southland (as an entity distinct from Mueller) neither produced nor exported any subject merchandise during the POR. We received no information from CBP to contradict the statements of Mueller, Southland, and Lamina (including TUNA) and the results of our data query that there were no shipments or entries of subject merchandise to the United States during the POR.

Scope of the Order

The products covered by this order are circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low pressure conveyance of water, steam, natural gas, and other liquids and gases in plumbing and heating systems, air conditioning units, automatic sprinkler systems, and other related uses, and generally meet ASTM A-53 specifications. Standard pipe may also be used for light load-bearing applications, such as for fence tubing, and as structural pipe tubing used for framing and support members for reconstruction or load-bearing purposes in the construction, shipbuilding, trucking, farm equipment, and related industries. Unfinished conduit pipe is also included in these orders. All carbon steel pipes and tubes within the physical description outlined above are included within the scope of this order, except line pipe, oil country tubular goods, boiler tubing, mechanical tubing, pipe and tube hollows for redraws, finished scaffolding, and finished conduit. Standard pipe that is dual or triple certified/stenciled that enters the U.S. as line pipe of a kind used for oil or gas pipelines is also not included in this order.

The merchandise covered by the order and subject to this review are currently classified in the Harmonized Tariff Schedule of the United States (HTSUS) at subheadings: 7306.30.10.00, 7306.30.50.25, 7306.30.50.32, 7306.30.50.40, 7306.30.50.55, 7306.30.50.85, and 7306.30.50.90. Although the HTSUS subheadings are provided for convenience and customs purposes, our written description of the scope of these proceedings is dispositive.

Preliminary Determination of No Shipments

A. No Shipments Claims

As noted above, the respondents submitted letters to the Department indicating that they made no shipments or entries of subject merchandise to the United States during the POR that are subject to this administrative review. In response to the Department's query, CBP data showed that a single entry of subject merchandise may have entered for consumption into the United States during the POR. See CBP Documents Memorandum at Attachment 1. In its February 25, 2011, claim of no shipments, Mueller and Southland addressed the status of this single entry, providing additional documentation on March 11, 2011. The documentation submitted by Mueller and Southland demonstrated that the single entry in question had been mischaracterized as subject merchandise. This documentation demonstrated that Mueller and Southland had applied for—and received CBP approval for—a post-entry amendment to the entry in question. This is confirmed by the Department's “No Shipments Inquiry” to CBP with regard to Mueller. CBP provided no information identifying additional Mueller shipments. The customs documents related to the single suspect entry were the same that had been submitted by Mueller and Southland to explain that the entry had been mischaracterized by Southland's customs broker. See CBP Documents Memorandum at Attachment 2. The above explanation is equally applicable to TUNA, which is confirmed by the Department's “No Shipments Inquiry” to CBP with regard to TUNA. See CBP Documents Memorandum (containing proprietary information not susceptible to public summary).

In addition, as stated above, the Department sent a “No Shipments Inquiry” to CBP with regard to Lamina and Southland to confirm that there were no shipments or entries of certain circular welded non-alloy steel pipe from Mexico by either respondent during the POR. We received no information from CBP to contradict the results of our data query and the claims made by each respondent.

Therefore, because the evidence on the record indicates that Mueller, Southland, TUNA, and Lamina made no shipments of subject merchandise to the United States during the POR, we preliminarily determine that there are no reviewable transactions during the POR for each of the respondents for whom reviews were requested.

Since the implementation of the 1997 regulations, our practice concerning no shipment respondents had been to rescind the administrative review if the respondent certifies that it had no shipments and we have confirmed through our examination of CBP data that there were no shipments of subject merchandise during the POR. See Antidumping Duties; Countervailing Duties, 62 FR 27296, 27393 (May 19, 1997); see also Oil Country Tubular Goods from Japan: Preliminary Results of Antidumping Duty Administrative Review and Partial Rescission of Review, 70 FR 53161, 53162 (September 5, 2007), unchanged in Oil Country Tubular Goods from Japan: Final Results and Partial Rescission of Antidumping Duty Administrative Review, 71 FR 95 (January 3, 2006). In such circumstances, we normally instructed CBP to liquidate any entries from the no shipment company at the deposit rate in effect on the date of entry.

In our May 6, 2003, “automatic assessment” clarification, we explained that, where respondents in an administrative review demonstrate that they had no knowledge of sales through resellers to the United States, we would instruct CBP to liquidate such entries at the all-others rate applicable to the proceeding. See Antidumping and Countervailing Duty Proceedings: Assessment of Antidumping Duties, 68 FR 23954 (May 6, 2003) (Assessment Policy Notice).

Because “as entered” liquidation instructions do not alleviate the concerns which the May 2003 clarification was intended to address, we find it appropriate in this case to instruct CBP to liquidate any existing entries of merchandise produced by the respondents, and exported by other parties at the all-others rate, should we continue to find that the respondents had no shipments of subject merchandise in the POR in our final results. See, e.g., Magnesium Metal From the Russian Federation: Preliminary Results of Antidumping Duty Administrative Review, 75 FR 26922, 26923 (May 13, 2010), unchanged in Magnesium Metal From the Russian Federation: Final Results of Antidumping Duty Administrative Review, 75 FR 56989, 56990 (September 17, 2010). In addition, the Department finds that it is more consistent with the May 2003 clarification not to rescind the review in its entirety but, rather, to complete the review with respect to the respondents, issuing appropriate instructions to CBP based on the final results of the review. See the “Assessment Rates” section of this notice below.

B. Duty Absorption

On January 25, 2011, Wheatland requested that the Department conduct a duty absorption inquiry with regard to Mueller, Lamina, and Ternium Nacional, S.A. de C.V. (Ternium). Mueller responded to this request on February 22, 2011. Section 751(a)(4) of the Tariff Act of 1930, as amended (the Act), provides for the Department, if requested, to determine during an administrative review initiated two or four years after publication of the order whether antidumping duties have been absorbed by the foreign producer or exporter if the subject merchandise is sold in the United States through an affiliated importer. See also 19 CFR 351.213(j). First, Ternium is not a respondent in this administrative review. Notwithstanding, because this review was not initiated at the two-year or four-year interval from publication of the antidumping duty order, a duty absorption inquiry is not authorized. See Antidumping Duty Order.

Assessment Rates

Upon completion of the administrative review, the Department shall determine, and CBP shall assess, antidumping duties on all appropriate entries, in accordance with 19 CFR 351.212. The Department intends to issue appraisement instructions directly to CBP 15 days after the date of publication of the final results of this review.

As noted above, the Department clarified its “automatic assessment” regulation on May 6, 2003. See Assessment Policy Notice. This clarification will apply to POR entries by each respondent company if we continue to make a final determination of no shipments based upon their certifications that they made no POR shipments of subject merchandise for which they had knowledge of U.S. destination. We will instruct CBP to liquidate these entries at the all-others rate established in the less-than-fair-value investigation (32.62 percent) if there is no rate for the intermediary involved in the transaction. See Assessment Policy Notice for a full discussion of this clarification.

The preliminary results of administrative review and this notice are issued and published in accordance with sections 751(a)(1) and 777(i)(1) of the Act.

Dated: August 2, 2011.
Ronald K. Lorentzen,
Deputy Assistant Secretary for Import Administration.

[FR Doc. 2011-20331 Filed 8-9-11; 8:45 am]

BILLING CODE 3510-DS-P